DEPARTMENT OF HOMELAND SECURITY

Coast Guard

[USCG-2007-29046]

Towing Safety Advisory Committee

AGENCY: Coast Guard, DHS.

ACTION: Notice of meetings.

SUMMARY: The Towing Safety Advisory Committee (TSAC) and its working groups will meet as required to discuss various issues relating to shallow-draft inland and coastal waterway navigation and towing safety. All meetings will be open to the public.

DATES: The working groups will meet on Tuesday, September 18, from 9 a.m. to 5 p.m. TSAC will meet on, Wednesday, September 19, from 8 a.m. to 3 p.m. These meetings may close early if all business is finished. Written material for and requests to make oral presentations at the meetings should reach the Coast Guard on or before September 10, 2007. Requests to have a copy of your material distributed to each member of the Committee or working groups prior to the meetings should reach the Coast Guard electronically on or before September 10, 2007.

ADDRESSES: TSAC will meet at the Sleep Inn and Suites; 10127 Washington Blvd.; Laurel, MD 20723. Please phone 301-604-6200 for guest room reservations before September 16, 2007 and mention that you are part of the Coast Guard meeting. Their Web site for maps/directions is http://www.choicehotels.com/ires/en-US/html/HotelInfo?hotel=MD189&sid=s2Bwg.toJmdg8lxg.3.Send written material and requests to make oral presentations to the Committee's Assistant Executive Director in the FOR FURTHER INFORMATION CONTACT section below. This notice and related documents are available on the Internet at http://dms.dot.gov under the docket number USCG-2007-29046.

FOR FURTHER INFORMATION CONTACT: Mr. Gerald P. Miante, Assistant Executive Director, TSAC; U.S. Coast Guard Headquarters, CG-3PSO-1, Room 1210; 2100 Second Street, SW., Washington, DC 20593-0001. Telephone (202) 372-1401, fax (202) 372-1926, or e-mail at: Gerald.P.Miante@uscg.mil.

SUPPLEMENTARY INFORMATION: Notice of these meetings is given under the Federal Advisory Committee Act [5 U.S.C. App. (Pub. L. 92-463)]. TSAC is chartered under that Act. It provides advice and makes recommendations to the Secretary on issues regarding shallow-draft inland and coastal waterway navigation and towing safety.

Agenda of Committee Meeting

The agenda tentatively includes the following items:

(1) Update of the Towing Vessel Inspection Working Group;

(2) Update on the Legislative Change Proposal (LCP) and the Medical and Physical Evaluation Guidelines for Merchant Mariner Credentials (Medical NVIC).

(3) Report from the Working Group on Lessons Learned from the Review of the AV KASTNER/BUCHANAN 14/SWIFT Collision and the MV WALLY ROLLER Incident;

(4) Update on the Merchant Mariner Credential (MMC) Rulemaking;

(5) Update on the STCW Rulemaking;

(6) Update on Training and Service Requirements for Merchant Marine Officers;

(7) Update on Commercial/Recreational Boating Interface;

(8) Update on the National Maritime Center (NMC) Restructuring/Centralization;

(9) Report on the M/V MARGARET ANN Incident; and

(10) Update on the Transportation Worker Identification Credential (TWIC).

Procedural

All meetings are open to the public. Please note that the meetings may close early if all business is finished. Members of the public may make oral presentations during the meetings. If you would like to make an oral presentation at a meeting, please notify the Assistant Executive Director no later than September 10, 2007. Written material for distribution at a meeting should reach the Coast Guard no later than September 10, 2007. If you would like a copy of your material distributed to each member of the Committee or Working Groups in advance of a meeting, please submit this material electronically to the e-mail address in FOR FURTHER INFORMATION CONTACT no later than September 10, 2007. Also, at the Chair's discretion, members of the public may present comment at the end of the Public Meeting. Please understand that the Committee's schedule may be quite demanding and time for public comment may be limited.

Information on Services for Individuals With Disabilities

For information on facilities or services for individuals with disabilities or to request special assistance at the meetings, contact the Assistant Executive Director as soon as possible.

Dated: August 20, 2007.
J.G. Lantz,
Director of National and International Standards, Assistant Commandant for Prevention.

[FR Doc. 07-4319 Filed 8-30-07; 12:12 pm]

BILLING CODE 4910-15-P